OFFICE OF PERSONNEL MANAGEMENT

Submission for Review: Revision of an Existing Information Collection, USAJOBS; Withdrawal

AGENCY: U.S. Office of Personnel Management.

ACTION: 30-Day Notice; Withdrawn.

SUMMARY: The U.S. Office of Personnel Management (OPM) is announcing the withdrawal of an information collection notice that published on Friday, July 22, 2011. The notice offered the general public and other Federal agencies the opportunity to comment on a revised information collection request (ICR) 3206-0219, USAJOBS.

DATES: The notice published on Friday, July 22, 2011 at 76 FR 44051 is withdrawn as of July 27, 2011.

FOR FURTHER INFORMATION CONTACT: The Office of Information and Regulatory Affairs, Office of Management and Budget, 725 17th Street, NW., Washington, DC 20503. Attention: Desk Officer for the Office of Personnel Management or sent via electronic mail to oira_submission@omb.eop.gov or faxed to (202) 395-6974.

SUPPLEMENTARY INFORMATION: This notice will re-publish in the Federal Register in August, once the current 60-day comment period has ended.

U.S. Office of Personnel Management.
Dale Anglin,
USAJOBS Program Director.

[FR Doc. 2011-18973 Filed 7-26-11; 8:45 am]

BILLING CODE 6325-39-P